DEPARTMENT OF THE INTERIOR

National Park Service

[NPS-WASO-NAGPRA-NPS0039188; PPWOCRADN0-PCU00RP14.R50000]

Notice of Inventory Completion: The Kikuchi Center at Kaua'i Community College, Līhu'e, HI

AGENCY: National Park Service, Interior.

ACTION: Notice.

SUMMARY: In accordance with the Native American Graves Protection and Repatriation Act (NAGPRA), the Kikuchi Center at Kaua'i Community College has completed an inventory of human remains and associated funerary objects and has determined that there is a cultural affiliation between the human remains and associated funerary objects and Indian Tribes or Native Hawaiian organizations in this notice.

DATES: Repatriation of the human remains and associated funerary objects in this notice may occur on or after January 13, 2025.

ADDRESSES: Jason Ford, The Kikuchi Center at Kaua'i Community College, 3-1901 Kaumuali'i Highway, Līhu'e, HI 96766, telephone (808) 245-8236, email jford9@hawaii.edu.

SUPPLEMENTARY INFORMATION: This notice is published as part of the National Park Service's administrative responsibilities under NAGPRA. The determinations in this notice are the sole responsibility of the Kikuchi Center at Kaua'i Community College, and additional information on the determinations in this notice, including the results of consultation, can be found in its inventory or related records. The National Park Service is not responsible for the determinations in this notice.

Abstract of Information Available

Human remains representing, at least, six individuals have been identified in the Kikuchi Center at Kaua'i Community College. The two lots of associated funerary objects are listed in the item descriptions below.

The Kikuchi Center is an archive curating the work of Dr. William Kikuchi. Dr. Kikuchi co-founded the Archaeology Research Center of Hawai'i, ARCH, with Francis Ching, Jr. He inherited a collection of ARCH project materials, including ARCH projects 14-152 III and 14-122. These project sites are located within North and South Kona on Hawai'i island. These materials were excavated circa 1980, and the founding of the Kikuchi Center and processing of these materials began in September 2022. In March of 2024, an osteologist analyzed the bones in the collection and positively identified the listed iwi kupuna as human. These bones are associated with Native Hawaiian sites, cultural layers, and items. Some bones and bone artifacts listed are too small for identification. Due to their association with the positively identified iwi kupuna, they are being listed for consultation and repatriation, and treated as human.

Item: Human remains. Site Name: ARCH 14-122. Geographical Location: Keahole, North Kona, Hawai'i. Collection History: Excavated for ARCH 14-122 project at Keahole circa 1980, these iwi kupuna were positively identified as human by an osteologist in March 2024.

Item: Human remains and associated funerary objects. Site Name: ARCH 14-152 III, Site 4564. Geographical Location: La'aloa, Kona, Hawai'i. Collection History: Excavated for ARCH project 14-152 III circa June 1980, these iwi kupuna were identified as human by an osteologist in March 2024. Associated funerary objects: one lot of basalt and coral abraders, basalt hammer and grinding stones, adze fragments, two small adze, one breadloaf sinker, three bone awls, wood and gourd fragments, urchin files, ili konane. Additional information: Site 4564 is identified as a blister cave and contained the iwi kupuna listed above.

Item: Human remains and associated funerary objects. Site Name: ARCH 14-152 III, Site 4579. Geographical Location: La'aloa, Kona, Hawai'i. Collection History: Excavated for ARCH project 14-152 III circa June 1980, these iwi kupuna were identified as human by an osteologist in March 2024. Associated funerary objects: two fish hooks, one lot of coral basalt abraders and hammer stones, lot of urchin files, one horse shoe, one micro adze, lot of shell beads, shell fish hook fragment, lauhala fibers, one bag of faunal bone midden, one bone awl, and one dog tooth pendant. Additional information: Site 4579 is identified as a lava tube.

Item: Human remains. Site Name: ARCH 14-152 III, Site 4581, 4559, 6482. Geographical Location: La'aloa, Kona, Hawai'i. Collection History: Excavated for ARCH project 14-152 III circa June 1980, these modified fragments were too small for positive identification by the osteologist. Preponderance of evidence suggests high likelihood they are human, and consultation with NHOs resulted in the determination they be treated as iwi kupuna and repatriated.

Cultural Affiliation

Based on the information available and the results of consultation, cultural affiliation is reasonably identified by the geographical location or acquisition history of the human remains and associated funerary objects described in this notice.

Determinations

The Kikuchi Center at Kaua'i Community College has determined that:

• The human remains described in this notice represent the physical remains of an estimated six individuals of Native Hawaiian ancestry.

• The two lots of objects described in this notice are reasonably believed to have been placed intentionally with or near individual human remains at the time of death or later as part of the death rite or ceremony.

• There is a connection between the human remains and associated funerary objects described in this notice and the Hale Mua Cultural Group and Protect Keopuka Ohana.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 13, 2025. If competing requests for repatriation are received, the Kikuchi Center at Kaua'i Community College must determine the most appropriate requestor prior to repatriation. Requests for joint repatriation of the human remains and associated funerary objects are considered a single request and not competing requests. The Kikuchi Center at Kaua'i Community College is responsible for sending a copy of this notice to the Indian Tribes and Native Hawaiian organizations identified in this notice.

Authority: Native American Graves Protection and Repatriation Act, 25 U.S.C. 3003, and the implementing regulations, 43 CFR 10.10.

Dated: December 4, 2024.
Melanie O'Brien,
Manager, National NAGPRA Program.

[FR Doc. 2024-29266 Filed 12-11-24; 8:45 am]

BILLING CODE 4312-52-P